DEPARTMENT OF LABOR

Employment and Training Administration

20 CFR Part 618

RIN 1205-AB56

Trade Adjustment Assistance; Merit Staffing of State Administration and Allocation of Training Funds to States; Clarification for the Rulemaking Record

AGENCY: Employment and Training Administration, Labor.

ACTION: Final rule; clarification for the rulemaking record.

SUMMARY: This notice provides, for the rulemaking record, information that was inadvertently omitted from the final rule in the Federal Register on April 2, 2010 (75 FR 16988) promulgating Trade Adjustment Assistance (TAA) regulations requiring States to use merit personnel systems in their administration of the TAA program, and prescribing a formula for allocating TAA training funds to the States.

DATES: Effective July 29, 2010.

FOR FURTHER INFORMATION CONTACT: Erin Fitzgerald, 202-693-3560; (this is not a toll-free number). TDD: 1-800-877-8339.

SUPPLEMENTARY INFORMATION: The Employment and Training Administration (ETA) published a final rule in the Federal Register on April 2, 2010 (75 FR 16988) promulgating Trade Adjustment Assistance (TAA) regulations requiring States to use merit personnel systems in their administration of the TAA program, and prescribing a formula for allocating TAA training funds to the States. This rule was effective May 3, 2010. This merit personnel system requirement is a condition for States receiving TAA funds as well as for State participation in the TAA program. OPM regulations (5 CFR 900.605) provide that, “Federal agencies may adopt regulations that require the establishment of a merit personnel system as a condition for receiving Federal assistance or otherwise participating in an intergovernmental program only with the prior approval of the Office of Personnel Management.” Because OPM's approval was not printed as part of the April 2, 2010 Federal Register notice, this notice clarifies for the record that OPM gave prior approval to the Department of Labor adopting these merit personnel system regulations for the TAA program.

Signed at Washington, DC, this 21st day of July 2010.
Jane Oates,
Assistant Secretary, Employment and Training Administration.

[FR Doc. 2010-18603 Filed 7-28-10; 8:45 am]

BILLING CODE 4510-FN-P